ENVIRONMENTAL PROTECTION AGENCY

[EPA-HQ-OAR-2023-0134; FRL-12427-01-OMS]

Agency Information Collection Activities; Submission to the Office of Management and Budget for Review and Approval; Comment Request; Comment Request; NESHAP for Gold Mine Ore Processing (Renewal)

AGENCY: Environmental Protection Agency (EPA).

ACTION: Notice.

SUMMARY: The Environmental Protection Agency (EPA) has submitted an information collection request (ICR), NESHAP for Gold Mine Ore Processing (EPA ICR Number 2383.06, OMB Control Number 2060-0659) to the Office of Management and Budget (OMB) for review and approval in accordance with the Paperwork Reduction Act. This is a proposed extension of the ICR, which is currently approved through November 30, 2024. Public comments were previously requested via the Federal Register on May 18, 2023 during a 60-day comment period. This notice allows for an additional 30 days for public comments.

DATES: Comments may be submitted on or before December 26, 2024.

ADDRESSES: Submit your comments, referencing Docket ID Number EPA-HQ-OAR-2023-0134 to EPA online using https://www.regulations.gov/ (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through November 30, 2024. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: The National Emission Standards for Hazardous Air Pollutants (NESHAP) for Gold Mine Ore Processing (40 CFR part 63, subpart EEEEEEE) were proposed on April 28, 2010, and promulgated on February 17, 2011. These regulations apply to both existing and new gold mine ore processing and production facilities that are area sources and use ore pretreatment, carbon processes with mercury retorts, carbon processes without mercury retorts, and non-carbon concentrate processes. The regulation sets mercury emission limits for each of the affected processes at both new and existing facilities. New facilities include those that either commenced construction or reconstruction after the date of proposal. This information is being collected to assure compliance with 40 CFR part 63, subpart EEEEEEE.

Form Numbers: None.

Respondents/affected entities: Owners and operators of Gold Mine Ore Processing Plants.

Respondent's obligation to respond: Mandatory (40 CFR part 63, subpart EEEEEEE).

Estimated number of respondents: 21 (total).

Frequency of response: Initially, occasionally, semiannually, and annually.

Total estimated burden: 2,840 hours (per year). Burden is defined at 5 CFR 1320.3(b).

Total estimated cost: $663,000 (per year), includes $227,000 annualized capital or operation & maintenance costs.

Changes in the Estimates: There is no change in burden from the most recently approved ICR as currently identified in the OMB Inventory of Approved Burdens. This is due to two considerations. First, the regulations have not changed over the past three years and are not anticipated to change over the next three years. Second, the growth rate for this industry is very low or non-existent, so there is no significant change in the overall burden. Since there are no changes in the regulatory requirements and there is no significant industry growth, there are also no changes in the capital/startup or operation and maintenance (O&M) costs.

Courtney Kerwin,
Director, Information Engagement Division.

[FR Doc. 2024-27624 Filed 11-25-24; 8:45 am]

BILLING CODE 6560-50-P